DEPARTMENT OF TRANSPORTATION

Federal Highway Administration

Environmental Impact Statement; Maui County, HI

AGENCY: Federal Highway Administration (FHWA), Hawaii Department of Transportation (HDOT).

ACTION: Notice of Intent.

SUMMARY: The Federal Highway Administration (FHWA) is issuing this notice to advise the public that an Environmental Impact Statement (EIS) will be prepared to evaluate alternatives that would improve the roadway capacity, safety, and reliability of Honoapiilani Highway between Maalaea and Launiupoko on the west side of the island of Maui. This section of highway is the main travel way for people and goods between West Maui and the rest of the island.

The EIS will be prepared in accordance with regulations implementing the National Environmental Policy Act (NEPA), as well as provisions of the recently enacted Safe, Accountable, Flexible, Efficient Transportation Equity Act: A Legacy of Users (SAFETEA-LU). The purpose of this Notice of intent is to alert interested parties regarding the plan to prepare the EIS, to provide information on the nature of the proposed project, to invite participation in the EIS process, including comments on the scope of the EIS proposed in this notice, and to announce that a public scoping meeting will be conducted.

FOR FURTHER INFORMATION CONTACT: Written comments on the scope of the EIS should be sent to Pat V. Phung, Transportation Engineer, Federal Highway Administration, Hawaii Division, Box 50206, 300 Ala Moana Blvd., Room 3-306, Honolulu, HI 96850, within 30 days of the publication of this notice.

SUPPLEMENTARY INFORMATION: The FHWA, in cooperation with the Hawaii Department of Transportation (HDOT), will be preparing an Environmental Impact Statement (EIS) for the improvement of the 11-mile segment of Honoapiilani Highway between Maalaea and Launiupoko in West Maui. The eastern limit of the project is the western terminus of the recent Honoapiilani Highway widening project near Maalaea. The western limit of the project will be southern terminus of the Lahaina Bypass Road, near Launiupoko Wayside Park. Highway improvements may involve improving portions of the existing highway and/or constructing a new highway along a different alignment.

Purposes and needs for the Nonoapiilani Highway Realignment/Widening, Maalaea to Launiupoko will be finalized after the completion of the scoping process. Project goals may involve: (1) Alleviate existing congestion; (2) Accommodate future travel demand; (3) Protect road from shoreline erosion; (4) Complement land use and preservation plans; (5) Improve reliability of access to and from West Maui; (6) Enhance pedestrian and vehicular mauka/makai movements; (7) Provide consistent roadway system linkages; (8) Enhance modal interrelationships and non-vehicular modes of travel; (9) Improve public safety for emergencies; and (10) Improve substandard road elements. These project purposes may be modified through the planning process.

The NEPA scoping process being initiated by the publication of this NOI is intended to generate a full range of project alternatives for subsequent evaluation. The No Build alternative would leave Honoapiilani Highway in its current condition except for possible short-term and minor activities, such as safety upgrades and maintenance. A Transportation System Management (TSM) alternative may include elements such as restriping the roadway, enhancing transit service, establishing contra-flow lanes, widening the roadway in place and/or raising the roadbed in areas of high shoreline hazard. The TSM alternative could also include establishing and improving intersections along the existing roadway through techniques such as channelization, roundabouts, or left turn lanes.

Other possible improvement alternatives include: (1) A new Kaanapali to Wailuku highway; (2) Aerial cable car; (3) Tunnel under the Pali; (4) Ocean causeway around the Pali; (5) Light Rail Transit from Lahaina to Wailuku; (6) Pave “Haul Cane Road” (Industrial Road, or Cane Haul Road;) (7) Ferries from Maalaea to either Mala Wharf, Lahaina small boat harbor, or a new harbor to be constructed at Cut Mountain; (8) Enhanced bus system; (9) Realignment included in the County's Pali to Puamana Plan (P2P Plan); (10) Alternative alignment proposed in a privately commissioned study; (11) Elevate and widen road within existing ROW; (12) Improve intersections along existing road; (13) Roadway Couplet (Westbound: 2 lanes in a mauka alignment and Eastbound: 2 lanes on existing road); (14) West Maui hotels provide enhanced shuttle service and car pools for workers; (15) Widen existing road to provide for contraflow operation; and (16) Widen existing road to provide for high occupancy vehicle (HOV) lanes.

The purpose of the EIS process is to explore in a pubic setting potentially significant effects of implementing the proposed action on the physical, human, and natural environment. Areas of investigation for this project will include but not be limited to cultural resources, archaeological resources, biological resources, social impact, engineering feasibility, schedule, cost-benefit analysis, land use pattern, shoreline access, residential displacements, impacts on existing businesses, air quality, noise and vibration, and ease of implementation. Measures to avoid, minimize, or mitigate any significant adverse impacts will be identified. The documents that will be produced include an Alternatives Analysis Report (AA), Draft and Final Environmental Impact Statement (DEIS and FEIS), and the Record of Decision (ROD).

Regulations implementing NEPA, as well as provisions of SAFETEA-LU, call for public involvement in the EIS process. Section 6002 of SAFETEA-LU requires that FHWA and HDOT do the following: (1) Extend an invitation to other government agencies and Native Hawaiian organizations that may have an interest in the proposed project to become “participating agencies,” (2) provide an opportunity for involvement by participating agencies and the public in helping to define the purpose and need for this proposed project, as well as the range of alternatives for consideration in the impact statement, and (3) establish a plan for coordinating public and agency participation in and comment on the environmental review process.

To comply with these regulations, an invitation to become a participating agency, with a scoping information packet appended, will be extended to other government agencies and Native Hawaiian organizations that may have an interest in the proposed project.

Community meetings will provide public-friendly and accessible venues for comments to be accepted regarding alternatives, scope of the EI, and the purpose and needs to be addressed. Community meetings will be held on Maui at times and locations convenient to those that work and live in the corridor. Meeting locations will be accessible to people with disabilities. Input received will be collected and documented. In addition to community meetings and a DEIS public hearing, small group meetings will be held during the planning and DEIS preparatory stages.

A project Task Force will also be formed to help advise HDOT on key aspects of the project such as project goals, development and ranking of alternatives; construction phasing plan; and mitigation measures. Similar to all community meetings, the Task Force meetings will be open to the public, accessible to people with disabilities, and held on Maui at times and locations convenient to those that live and work in the corridor.

(Catalog of Federal Domestic Assistance Program Number 20.205, Highway Planning and Construction. The regulations implementing Executive Order 12372 regarding intergovernmental consultation on Federal programs and activities apply to this program.)

Issued on: May 30, 2007.
Abraham Wong,
Federal Highway Administration, Hawaii Division, HOnolulu, Hawaii.

[FR Doc. 07-2814 Filed 6-6-07; 8:45 am]

BILLING CODE 4910-22-M